DEPARTMENT OF EDUCATION

Applications for New Awards; School Leadership Program

AGENCY: Office of Innovation and Improvement, Department of Education.

ACTION: Notice.

Overview Information:

School Leadership Program.

Notice inviting applications for new awards for fiscal year (FY) 2013.

Catalog of Federal Domestic Assistance (CFDA) Number: 84.363A.

DATES:

Applications Available: May 8, 2013.

Deadline for Notice of Intent to Apply: June 7, 2013.

Date of Pre-Application Meeting: May 22, 2013. Further information will be available at: www2.ed.gov/programs/leadership/applicant.html.

Deadline for Transmittal of Applications: July 8, 2013.

Deadline for Intergovernmental Review: September 5, 2013.

Full Text of Announcement

I. Funding Opportunity Description

Purpose of Program: The School Leadership Program (SLP) assists high-need local educational agencies (LEAs) in recruiting, training, and supporting principals (including assistant principals) by providing—

• Financial incentives to aspiring new principals (teachers or individuals from other fields who want to become principals);

• Stipends to principals who mentor new principals;

• Professional development programs that focus on instructional leadership and management; and

• Other incentives that are appropriate and effective in retaining new principals.

Background:

The goal of the SLP is to increase student achievement by investing in innovative projects that prepare aspiring principals and provide professional development to current principals (including current assistant principals) to foster mastery of core leadership skills. To this end, the Department encourages applicants under this competition to propose projects that will implement pre- and in-service programs that produce the most highly qualified school leaders.

Studies show that there is no overall shortage of candidates with the credentials that States require for school principals. However, those same studies indicate that most of these candidates acquired their credentials in order to obtain salary increases or attain an advanced degree, not necessarily because of a commitment to become principals.¹ And, when credentialed candidates do seek to become principals, some lack the readiness to meet the demands of the position. In fact, many district leaders and policy-makers are critical of preparation programs that lack rigorous screening and selection entry requirements, courses that are not aligned with standards of practice, and insufficient clinical experiences for candidates.² Furthermore, once credentialed individuals become principals, they are often not provided the necessary support and development opportunities that will enable them to shape a strong professional community and collective responsibility for student learning. In terms of professional development, too often these programs are not aligned with principals' needs, fragmented, episodic and not sustained, lacking in rigor, and not designed to allow for any assessment of impact.

¹ Roza, M., Celio, M.B., Harvey, J., & Wishon, S. (January 2003). A Matter of Definition: Is There Truly a Shortage of School Principals? A Report to the Wallace—Reader's Digest Fund.

² Hale, E. L., & Moorman, H.N. (September 2003). Preparing School Principals: A National Perspective on Policy and Program Innovations. Washington, DC: Institute for Educational Leadership.

Consequently, both novice and experienced principals (including assistant principals) lack the necessary skills to respond to the growing demands of their positions, which include evaluating, supporting, and developing teachers and implementing effective organizational processes. Moreover, as the effect of leaders on student achievement becomes more evident, high-quality professional development programs are increasingly critical.

Unfortunately, there is limited evidence that demonstrates the effect of principal preparation and professional development programs' impact on teaching and learning. Therefore, through this competition, we encourage applicants to address the challenges of preparing and supporting principals by creating or enhancing projects that contribute to the limited body of high-quality evidence on principal preparation, professional development for principals, or both.

More specifically, under the selection criteria, applicants are encouraged to include an evaluation plan that is likely to produce valid, reliable, and rigorous evidence of the SLP-funded project's impact on producing effective principals, as measured, at least in part, using student outcome data, where data is available.

Given the pre-service and in-service challenges that so many principals face, we are including two invitational priorities to promote high-quality professional development for principals and to identify evidence of effectiveness of principal preparation or professional development programs. Invitational priority one encourages applicants to design projects that will provide ongoing support and development of principals (including assistant principals) to increase principal effectiveness. Invitational priority two seeks to identify project designs that address principal preparation, professional development, or both and that are supported by moderate evidence of effectiveness (as defined in this notice). Through these invitational priorities we encourage applicants to identify practices, strategies, and program models that build and enhance school leader capacity to positively impact teaching and learning. Addressing the invitational priorities will not give an applicant an advantage over another applicant that does not choose to respond to the invitational priorities. However, we hope applicants will consider the invitational priorities in developing their applications.

Priority: Under this competition we are particularly interested in applications that address the following priorities.

Invitational Priorities: For FY 2013 and any subsequent year in which we make awards from the list of unfunded applicants from this competition, these priorities are invitational priorities. Under 34 CFR 75.105(c)(1), we do not give an application that meets these invitational priorities a competitive or absolute preference over other applications.

These priorities are:

Invitational Priority 1—Building Leadership Capacity.

Projects that implement professional development for current principals (including assistant principals), especially in schools that the State educational agency (SEA) has identified as persistently lowest-achieving schools, (as defined in this notice) or in schools that the SEA has identified in accordance with its approved ESEA flexibility request as priority schools or focus schools (as defined in this notice), to: (1) Help them master essential school leadership skills, such as evaluating and providing feedback to teachers, analyzing student data, developing school leadership teams, and creating a positive school environment; and (2) enable them to support instruction in their schools aligned to college- and career-ready standards.

Invitational Priority 2—Supporting Practices and Strategies for Which There Is Moderate Evidence of Effectiveness.

Projects that provide principal preparation, professional development, or both that are supported by moderate evidence of effectiveness (as defined in this notice).

Definitions:

Focus school means a Title I school in the State that, based on the most recent data available, is contributing to the achievement gap in the State. The total number of focus schools in a State must equal at least 10 percent of the Title I schools in the State. A focus school is a school that has the largest within-school gaps between the highest-achieving subgroup or subgroups and the lowest-achieving subgroup or subgroups or, at the high school level, has the largest within-school gaps in graduation rates; or a school that has a subgroup or subgroups with low achievement or, at the high school level, low graduation rates.

An SEA must also identify as a focus school a Title I high school with a graduation rate less than 60 percent over a number of years that is not identified as a priority school.

These determinations must be based on the achievement and lack of progress over a number of years of one or more subgroups of students identified in section 1111(b)(2)(C)(v)(II) of the Elementary Secondary Education Act, as amended (ESEA), in terms of proficiency on the statewide assessments that are part of the SEA's differentiated recognition, accountability, and support system, combined, or, at the high school level, graduation rates for one or more subgroups.

Large sample means a sample of 350 or more students (or other single analysis units) who were randomly assigned to a treatment or control group, or 50 or more groups (such as classrooms or schools) that contain 10 or more students (or other single analysis units) and that were randomly assigned to a treatment or control group.

Moderate evidence of effectiveness means one of the following conditions is met:

(1) There is at least one study of the effectiveness of the process, product, strategy, or practice being proposed that meets the What Works Clearinghouse (WWC) Evidence Standards without reservations; ³ finds a statistically significant favorable impact on a relevant outcome (as defined in this notice) (with no statistically significant unfavorable impacts on that outcome for relevant populations in the study or in other studies of the intervention reviewed by and reported on by the WWC); and includes a sample that overlaps with the populations or settings proposed to receive the process, product, strategy, or practice.

³ See WWC Procedures and Standards Handbook (Version 2.1, September 2011), which can currently be found at: http://ies.ed.gov/ncee/wwc/DocumentSum.aspx?sid=19.

(2) There is at least one study of the effectiveness of the process, product, strategy, or practice being proposed that meets the WWC Evidence Standards with reservations; ⁴ finds a statistically significant favorable impact on a relevant outcome (as defined in this notice) (with no statistically significant unfavorable impacts on that outcome for relevant populations in the study or in other studies of the intervention reviewed by and reported on by the WWC); includes a sample that overlaps with the populations or settings proposed to receive the process, product, strategy, or practice; and includes a large sample (as defined in this notice) and a multi-site sample (as defined in this notice). (Note: Multiple studies can cumulatively meet the large and multi-site sample requirements as long as each study meets the other requirements in this paragraph.)

⁴ See WWC Procedures and Standards Handbook (Version 2.1, September 2011), which can currently be found at: http://ies.ed.gov/ncee/wwc/DocumentSum.aspx?sid=19.

Multi-site sample means more than one site, where site can be defined as an LEA, locality, or State.

Persistently lowest-achieving school means, as determined by the State: (1) Any Title I school in improvement, corrective action, or restructuring that is (a) among the lowest-achieving five percent of Title I schools in improvement, corrective action, or restructuring or the lowest-achieving five Title I schools in improvement, corrective action, or restructuring in the State, whichever number of schools is greater; or (b) a high school that has had a graduation rate as defined in 34 CFR 200.19(b) that is less than 60 percent over a number of years; and (2) any secondary school that is eligible for, but does not receive, Title I funds that is (a) among the lowest-achieving five percent of secondary schools or the lowest-achieving five secondary schools in the State that are eligible for, but do not receive, Title I funds, whichever number of schools is greater; or (b) a high school that has had a graduation rate as defined in 34 CFR 200.19(b) that is less than 60 percent over a number of years.

Note: For the purposes of this competition, the Department considers schools that are identified as Tier I or Tier II schools under the SIG Program (see 75 FR 66363) as part of a State's approved FY 2009, FY 2010, or FY 2011 application to be persistently lowest-achieving schools. A list of these Tier I and Tier II schools can be found on the Department's Web site at http://www2.ed.gov/programs/sif/index.html.

Priority school means a school that, based on the most recent data available, has been identified as among the lowest-performing schools in the State. The total number of priority schools in a State must be at least five percent of the Title I schools in the State. A priority school is a—

• School among the lowest five percent of Title I schools in the State based on the achievement of the “all students” group in terms of proficiency on the statewide assessments that are part of the SEA's differentiated recognition, accountability, and support system, combined, and that has demonstrated a lack of progress on those assessments over a number of years in the “all students” group;

• Title I-participating or Title I-eligible high school with a graduation rate less than 60 percent over a number of years; or

• Tier I or Tier II school under the School Improvement Grant (SIG) Program that is using SIG funds to implement a school intervention model.

Relevant outcome means the student outcome or outcomes (or the ultimate outcome if not related to students) that the proposed project is designed to improve, consistent with the specific goals of a program.

Program Authority: 20 U.S.C. 6651(b).

Applicable Regulations: (a) The Education Department General Administrative Regulations in 34 CFR parts 74, 75, 77, 79, 80, 81, 82, 84, 86, 97, 98, and 99. (b) The Education Department suspension and debarment regulations in 2 CFR part 3485.

Note: The regulations in 34 CFR part 79 apply to all applicants except federally recognized Indian tribes.

Note: The regulations in 34 CFR part 86 apply to institutions of higher education only.

II. Award Information

Type of Award: Discretionary grants.

Estimated Available Funds: $14,800,000.

Estimated Range of Awards: $750,000-$1,000,000.

Estimated Average Size of Awards: $850,000.

Estimated Number of Awards: 14-17.

Note: The Department is not bound by any estimates in this notice and may elect to forward fund awards for a project period of up to 60 months, thereby decreasing the number of estimated awards.

Project Period: Up to 60 months (subject to availability of funds).

III. Eligibility Information

1. Eligible Applicants: High-need LEAs; consortia of high-need LEAs; and partnerships of high-need LEAs, nonprofit organizations (which may be community- or faith-based organizations), and institutions of higher education.

“High-need LEA” (as defined in section 2102(3) of the ESEA) means an LEA—

(a)(1) That serves not fewer than 10,000 children from families with incomes below the poverty line, or (2) for which not less than 20 percent of the children served by the LEA are from families with incomes below the poverty line; and

(b) For which there is (1) a high percentage of teachers not teaching in the academic subjects or grade levels the teachers were trained to teach, or (2) a high percentage of teachers with emergency, provisional, or temporary certification or licensing.

So that the Department can confirm the eligibility of the LEAs that applicants propose to serve, applicants must include information in their applications that demonstrates that each participating LEA in the project is a high-need LEA. This information must be based on the most recent available data on the number of children that the LEA serves from families with incomes below the poverty line. When presenting evidence to support that each participating LEA is a high-need LEA, an applicant must consider the following:

The Department is not aware of any reliable data that are available to LEAs—other than data periodically gathered by the U.S. Census Bureau—that would show that an LEA serves the required number or percentage of children (individuals ages 5 through 17) from families below the poverty line (as defined in section 9101(33) of the ESEA).

Note: The data that many LEAs collect on the number or percentage of children eligible for free- and reduced-priced meal subsidies may not be used to satisfy the requirements under component (a) of the ESEA definition of “high-need LEA.” Those data do not reflect children from families with incomes below the poverty line, as that term is defined in section 9101(33) of the ESEA.

Therefore, absent a showing of alternative LEA data that reliably show the number of children from families with incomes below the poverty line that are served by the LEA, the eligibility of an LEA as a high-need LEA under component (a) would be determined on the basis of the most recent U.S. Census Bureau data. U.S. Census Bureau data are available for all school districts with geographic boundaries that existed when the U.S. Census Bureau collected its information. The link to the Census Bureau data is: www.census.gov/hhes/www/saipe/data/index.html. The Department also makes these data available on its Web site at: www.ed.gov/programs/lsl/eligibility.html. (Although the Department has posted this listing specifically for the Improving Literacy through School Libraries program, these same data apply to the ESEA definition of a “high-need LEA” used for purposes of determining eligibility under the SLP.)

With regard to component (b)(1) of the ESEA definition of “high-need LEA,” the Department interprets the phrase “a high percentage of teachers not teaching in the academic subjects or grade levels that the teachers were trained to teach” as being equivalent to “a high percentage of teachers teaching out of field.” We expect that LEAs that rely on component (b)(1) of the ESEA definition of “high-need LEA” will choose to address why they believe that they have a high percentage of teachers teaching out of field rather than try to provide the data needed to show the percentage of teachers not teaching in the academic subjects or grade levels they were trained to teach. The Department is not aware of any specific data that would demonstrate a “high percentage” of teachers teaching out of field (or a high percentage of teachers not teaching in the academic subjects or grade levels they were trained to teach). Accordingly, the Department will review this aspect of an LEA's proposed eligibility on a case-by-case basis.

To decrease the level of uncertainty, an applicant may choose instead to demonstrate that each participating LEA meets the eligibility test for a high-need LEA under component (b)(2) of the ESEA definition. For component (b)(2), to demonstrate a “high percentage” of teachers with emergency, provisional, or temporary certification or licensing, an applicant would provide the percentage of teachers on waivers of State certification or licensure requirements. The Department would expect that an LEA with over 1.1 percent of its teachers having emergency, provisional, or temporary certification or licensing (i.e., teachers on waivers) has a “high percentage.” This percentage comes from data that States reported to the Secretary under section 207 of the Higher Education Act of 1965, as amended by the previous reauthorization, Higher Education Amendments of 1998. The most recent report available that contains this information is the Secretary's 2010 report, which is available at: http://www2.ed.gov/about/reports/annual/teachprep/2011-title2report.pdf.

The eligibility of LEAs for which data needed to implement section 2103(2) of the ESEA may not exist, such as newly formed LEAs or schools funded by the Bureau of Indian Education, will be determined on a case-by-case basis based on the best available data the applicant includes with its application.

2. Cost Sharing or Matching: This program does not require cost sharing or matching.

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794.

If you use a telecommunications device for the deaf (TDD) or a text telephone (TTY), call toll free: 1-877-576-7734.

You can contact ED Pubs at its Web site, also: www.EDPubs.gov or at its email address: edpubs@inet.ed.gov.

If you request an application from ED Pubs, be sure to identify this program or competition as follows: CFDA number 84.363A.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this program.

Notice of Intent to Apply: The Department will be able to develop a more efficient process for reviewing grant applications if it has a better understanding of the number of entities that intend to apply for funding under this program. Therefore, the Secretary strongly encourages each potential applicant to notify the Department by sending a short email message indicating the applicant's intent to submit an application for funding. The email need not include information regarding the content of the proposed application, only the applicant's intent to submit it. This email notification should be sent to Tyra Stewart at: schoolleadershipmatters@ed.gov.

Applicants that fail to provide this email notification may still apply for funding.

Page Limit: The application narrative (Part III of the application) is where you, the applicant, address the selection criteria that reviewers use to evaluate your application. Applicants are strongly encouraged to limit the application narrative to the equivalent of no more than 50 single-sided pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The page limit does not apply to Part I, the cover sheet; Part II, the budget section, including the narrative budget justification; Part IV, the assurances and certifications; or the one-page abstract, the resumes, the bibliography, or the letters of support. However, the page limit does apply to all of the application narrative section (Part III).

3. Submission Dates and Times: Applications Available: May 8, 2013. Deadline for Notice of Intent to Apply: June 7, 2013. Date of Pre-Application Meeting: May 22, 2013. Further information will be available at: www2.ed.gov/programs/leadership/applicant.html. Deadline for Transmittal of Applications: July 8, 2013.

Applications for grants under this program must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice. Deadline for Intergovernmental Review: Sept. 5, 2013.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, Central Contractor Registry, and System for Award Management: To do business with the Department of Education, you must—

a. Have a Data Universal Numbering System (DUNS) number and a Taxpayer Identification Number (TIN);

b. Register both your DUNS number and TIN with the Central Contractor Registry (CCR)—and, after July 24, 2012, with the System for Award Management (SAM), the Government's primary registrant database;

c. Provide your DUNS number and TIN on your application; and

d. Maintain an active CCR or SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR or SAM registration process may take five or more business days to complete. If you are currently registered with the CCR, you may not need to make any changes. However, please make certain that the TIN associated with your DUNS number is correct. Also note that you will need to update your registration annually. This may take three or more business days to complete. Information about SAM is available at SAM.gov.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this program must be submitted electronically unless you qualify for an exception to this requirement in accordance with the instructions in this section.

a. Electronic Submission of Applications. Applications for grants under the School Leadership Program, CFDA number 84.363A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the School Leadership Program at www.Grants.gov. You must search for the downloadable application package for this program by the CFDA number. Do not include the CFDA number's alpha suffix in your search (e.g., search for 84.363, not 84.363A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (a Department-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Tyra Stewart, U.S. Department of Education, 400 Maryland Avenue SW., Room 4C111, Washington, DC 20202-5950. FAX: (202) 401-8466.

Your paper application must be submitted in accordance with the mail or hand delivery instructions described in this notice.

b. Submission of Paper Applications by Mail. If you qualify for an exception to the electronic submission requirement, you may mail (through the U.S. Postal Service or a commercial carrier) your application to the Department. You must mail the original and two copies of your application, on or before the application deadline date, to the Department at the following address:

U.S. Department of Education, Application Control Center, Attention: (CFDA Number 84.363A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you qualify for an exception to the electronic submission requirement, you (or a courier service) may deliver your paper application to the Department by hand. You must deliver the original and two copies of your application by hand, on or before the application deadline date, to the Department at the following address:

U.S. Department of Education, Application Control Center, Attention: (CFDA Number 84.363A), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210. The maximum score for all of the selection criteria is 100 points. The maximum score for each criterion is indicated in parentheses. Each criterion also includes the factors that the reviewers will consider in determining how well an application meets the criterion. Any notes following a selection criterion are intended to provide guidance to help applicants in preparing their applications only, and are not statutory or regulatory requirements for this competition.

Note: In responding to the selection criteria, applicants should keep in mind that peer reviewers may consider only the information provided in the written application when scoring and commenting on the application. Therefore, applicants should draft their response with the goal of helping peer reviewers understand the purpose of the proposed project, as well as the expected outcomes of the project if it is successful.

The criteria are as follows:

A. Quality of the project design (up to 45 points). The Secretary considers the quality of the design of the proposed project. In determining the quality of the design of the proposed project, the Secretary considers the following factors:

1. The extent to which the goals, objectives, and outcomes to be achieved by the proposed project are clearly specified and measurable.

2. The extent to which the design of the proposed project is appropriate to, and will successfully address, the needs of the target population or other identified needs.

3. The extent to which the proposed project is part of a comprehensive effort to improve teaching and learning and support rigorous academic standards for students.

4. The extent to which the design for implementing and evaluating the proposed project will result in information to guide possible replication of project activities or strategies, including information about the effectiveness of the approach or strategies employed by the project.

Note: The Secretary encourages applicants to clearly articulate how the proposed project will support principals and assistant principals in fostering school conditions that support effective teaching and learning that lead to improved student outcomes.

B. Quality of the project evaluation (up to 15 points). The Secretary considers the quality of the evaluation to be conducted of the proposed project. In determining the quality of the evaluation, the Secretary considers the following factors:

1. The extent to which the methods of evaluation include the use of objective performance measures that are clearly related to the intended outcomes of the project and will produce quantitative and qualitative data to the extent possible.

2. The extent to which the methods of evaluation provide for examining the effectiveness of project implementation strategies.

3. The extent to which the methods of evaluation will provide performance feedback and permit periodic assessment of progress toward achieving intended outcomes.

Note: Applicants are encouraged to develop a logic model, that is, a well-conceptualized framework that identifies key components of the proposed intervention and describes the relationship among the key components and outcomes. Applicants are also encouraged to ensure that they have devoted sufficient resources to support the implementation of their evaluation plan.

C. Significance (up to 25 points). The Secretary considers the significance of the proposed project. In determining the significance of the proposed project, the Secretary considers the following factors:

1. The potential contribution of the proposed project to increased knowledge or understanding of educational problems, issues, or effective strategies.

2. The likelihood that the proposed project will result in system change or improvement.

3. The importance or magnitude of the results or outcomes likely to be attained by the proposed project, especially improvements in teaching and student achievement.

D. Quality of the management plan (up to 15 points). The Secretary considers the quality of the management plan for the proposed project. In determining the quality of the management plan for the proposed project, the Secretary considers the following factors:

1. The adequacy of the management plan to achieve the objectives of the proposed project on time and within budget, including clearly defined responsibilities, timelines, and milestones for accomplishing project tasks.

2. The adequacy of procedures for ensuring feedback and continuous improvement in the operation of the proposed project.

2. Review and Selection Process: The Department will screen applications submitted in accordance with the requirements in this notice, and will determine which applications have met eligibility and other statutory requirements. Applications that do not meet the eligibility criteria will not be reviewed.

The Department will use independent peer reviewers with various backgrounds and professions, including teachers and principals, college and university educators, researchers and evaluators, grant makers and managers, and others with education expertise. The Department will thoroughly screen all reviewers for conflicts of interest to ensure a fair and competitive review process.

Reviewers will read, prepare a written evaluation of, and score the applications assigned to their panel, using the selection criteria provided in this notice.

We remind potential applicants that, in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances, including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR part 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170, should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The Secretary has established five performance measures for assessing the effectiveness of the SLP. The SLP performance measures are:

(1) The percentage of program graduates who are certified to become a principal or assistant principal.

(2) The percentage of program graduates who are certified and hired as a principal or assistant principal in a high-need LEA.

(3) The percentage of program graduates certified through the program who are hired as a principal or assistant principal in a high-need LEA and who remain in that position for at least two years.

(4) The percentage of principals and assistant principals who complete the SLP-funded professional development program and whose schools demonstrate positive change, no change, or negative change based on pre- and post-school site measures, of which one measure must include, if available, student growth (e.g., at least one grade level in an academic year).

(5) The percentage of program graduates who are rated “effective” or “highly effective” as measured by a U.S. Department of Education program approved principal evaluation system, if available.

Note: Applicants that receive funding under this program will be required to collect and submit data on the measures that are aligned to the project design in the annual performance report for each performance period. Specifically, for performance measure 4, grantees may include school site measures such as: Student disciplinary actions, teacher attendance, parent engagement, teachers rated “effective” or “highly effective,” or other school climate measures. For performance measure 5, where available, we are interested in collecting the percentage of SLP graduates who are rated “effective” or “highly effective” after completing the SLP funded professional development program for current principals or after one year in the position as principals for participants that became certified through the SLP funded project using a principal evaluation that has met the requirements and has been approved by programs such as: Race to the Top, ESEA Flexibility, School Improvement Grants, or the FY 2012 Teacher Incentive Fund principal evaluation system requirements. If a system is not yet approved by one of these programs we will determine appropriate data collection on a case-by-case basis.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Tyra Stewart, U.S. Department of Education, 400 Maryland Avenue SW., Room 4C111, Washington, DC 20202-5960. Telephone: (202) 260-1847, or by email: Schoolleadershipmatters@ed.gov.

If you use a TDD or TTY, call the Federal Relay Service, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 3, 2013.
James H. Shelton, III,
Assistant Deputy Secretary for Innovation and Improvement.

[FR Doc. 2013-10980 Filed 5-7-13; 8:45 am]

BILLING CODE 4000-01-P